DEPARTMENT OF LABOR

Employment and Training Administration

[TA-W-73,441H]

Quad Graphics, Inc., Including Workers Whose Wages Were Reported Under Quad Graphics Printing Corp. and Quad Logistics Services, Effingham, IL; Amended Certification Regarding Eligibility To Apply for Worker Adjustment Assistance

In accordance with Section 223 of the Trade Act of 1974, as amended (“Act”), 19 U.S.C. 2273, the Department of Labor issued a Certification of Eligibility to Apply for Worker Adjustment Assistance on September 27, 2011, applicable to workers and former workers of Quad Graphics, Inc., Sussex, Wisconsin (TA-W-73,441). Workers are engaged in activities related to the production of magazines and catalogues.

At the request of the State of Illinois, the Department reviewed the certification for workers of the subject firm.

New information shows that workers at an Effingham, Illinois facility operated in conjunction with the Sussex, Wisconsin facility and had wages reported under Quad Graphics, Inc., Quad Graphics Printing Corp., and Quad Logistics Services.

The intent of the Department's certification is to include all workers of the subject firm who were adversely affected by an acquisition from a foreign country of production of articles like or directly competitive with those produced by the workers.

The amended notice applicable to TA-W-73,441 is hereby issued as follows:

All workers of Quad Graphics, Inc., including workers whose wages were reported under Quad Graphics Printing Corp. and Quad Logistics Services (TA-W-73,441H), who became totally or partially separated from employment on or after February 2, 2009, through September 27, 2013, and all workers in the group threatened with total or partial separation from employment on September 27, 2011 through September 27, 2013, are eligible to apply for adjustment assistance under Chapter 2 of Title II of the Trade Act of 1974, as amended.

Signed in Washington, DC, this 17th day of October 2012
Del Min Amy Chen,
Certifying Officer, Office of Trade Adjustment Assistance.

[FR Doc. 2012-26492 Filed 10-26-12; 8:45 am]

BILLING CODE 4510-FN-P